DEPARTMENT OF JUSTICE

Notice of Lodging of Proposed Third Amendment to Consent Decree Under the Clean Water Act

On January 15, 2021, the Department of Justice lodged a proposed Third Amendment to Consent Decree (Consent Decree) with the United States District Court for the Western District of Missouri, Western Division, in the lawsuit entitled United States of America v. The City of Kansas City, Missouri, Civil Action No. 4:10-CV-0497-GAF.

The Complaint initiating this matter sought injunctive relief and civil penalties for alleged violations of the Clean Water Act, 33 U.S.C. 1251 et seq., and National Pollutant Discharge Elimination System Permits issued thereunder in connection with overflows from Kansas City's sanitary and storm sewer systems. Kansas City (the “City”) and the United States entered a Consent Decree on May 18, 2010, providing for the City to pay a civil penalty for its past violations of the Clean Water Act and to undertake a series of projects to reduce the overflows from its sewer system in accordance with an agreed-upon schedule.

Under the proposed Third Amendment to Consent Decree, the City has agreed to achieve a series of interim overflow reductions culminating in achievement of at least 85% reduction of overflow volume not later than December 31, 2040. The interim milestones require capture of specified percentages of overflows and implementation of specified control measures by December 31, 2024, December 31, 2030, and December 31, 2035. Additionally, the Third Amendment to Consent Decree incorporates adaptive management concepts intended to allow the parties expeditiously to agree upon re-ordering or substitution of projects in a manner that does not impact the achievement of interim or final flow capture requirements.

The publication of this notice opens a period for public comment on the Consent Decree. Comments should be addressed to the Assistant Attorney General, Environment and Natural Resources Division, and should refer to United States of America v City of Kansas City, Missouri, D.J. Ref. No. 90-5-1-1-06438/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $26.00 (25 cents per page reproduction cost) payable to the United States Treasury.

Susan Akers,
Assistant Section Chief, Environmental Enforcement Section, Environment and Natural Resources Division.

[FR Doc. 2021-01929 Filed 1-28-21; 8:45 am]

BILLING CODE 4410-15-P